DEPARTMENT OF ENERGY

Federal Energy Regulatory Commission

[Docket No. CP01-100-000]

Western Gas Resources, Inc.; Notice of Petition for Declaratory Order

March 9, 2001.

Take notice that on March 7, 2001, Western Gas Resources, Inc. (Western), 12200 N. Pecos Street, Denver, CO 80234, filed a petition for declaratory order in Docket No. CP01-100-000, requesting that the Commission declare that the acquisition of certain natural gas pipeline, gathering, treating and compression facilities from Northern Natural Gas Company (Northern) by Western's intrastate pipeline affiliate, Western Gas Resources—Texas, Inc. (WGR-Tx), and the subsequent ownership and operation of such facilities by WGR-Tx an/or Western, will be exempt from the Commission's jurisdiction under the Natural Gas Act either pursuant to section 1(b) of the statute or by virtue of their ownership by, and operation as part of, the intrastate pipeline system of WGR-Tx, an intrastate pipeline company as defined by section 2(16) of the Natural Gas Policy Act of 1978, all as more fully set forth in the petition which is on file with the Commission and open to public inspection. This filing may be viewed on the web at http://www.ferc.us/online/rims.htm (call 202-208-2222).

Any questions concerning this application may be directed to John B. Rudolph, at (202) 973-1200.

Northern has submitted an application in Docket No. CP01-89-000 for abandonment of these facilities pursuant to section 7(b) of the NGA. Western indicates that the facilities are located adjacent to Western's existing Gomez and Mitchell Processing and Treating Plants in Pecos County, Texas. Western states that Western's and WGR-Tx's Mitchell/Gomez gathering and treating facilities are currently both physically connected into the Northern Gomez Compressor Station by Northern pipelines running between these two Western/WGR-Tx treating plants and the Northern Gomez Station; and thus, these two plants are, to a degree, already operationally dependent on these Northern pipelines and compression facilities. Western states that WGR-Tx's acquisition and reconfiguration of these pipeline and compression facilities, together with certain other Northern pipelines/gathering lines in this general geographic area will enhance the operational flexibility of the Mitchell/Gomez gathering and treating facilities, enable greater access of deliveries from these facilities to intrastate markets, and provide WGR-Tx and Western greater operational control of facilities which are already a physically integrated part of their gas gathering and treating operations in this field production area.

Therefore, Western seeks a Commission order declaring that, following Northern's abandonment of the aforementioned natural gas pipeline and compression facilities together with certain treating and dehydration facilities and four (4) additional short lateral lines, WGR-Tx's acquisition, and its and/or Western's subsequent ownership and operation of such facilities as part of the Mitchell/Gomez gathering/treating facility complex, will be exempt from the Commission's jurisdiction under the NGA, either by reason of the NGA's section 1(b) gathering exemption, or because such facilities will be owned and operated as part of WGR-Tx's intrastate system subject to the jurisdiction of the Texas Railroad Commission.

Any person desiring to be heard or to make protest with reference to said petition should on or before March 30, 2001, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules. Comments and protests may be filed electronically via the internet in lieu of paper. See, 18 CFR 385.2001(a)(1)(iii) and the instructions on the Commission's web site at http://www.ferc.fed.us/efi/doorbell.htm.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Western to appear or be represented at the hearing.

David P. Boergers,
Secretary.

[FR Doc. 01-6422 Filed 3-14-01; 8:45 am]

BILLING CODE 6717-01-M